CHEMICAL SAFETY AND HAZARD INVESTIGATION BOARD

Sunshine Act Meeting

TIME AND DATE: January 15, 2014, 6:30 p.m.-8:30 p.m. PST.

PLACE: City Council Chambers, Civic Center Campus, 440 Civic Center Plaza, Richmond, CA 94804.

STATUS: Open to the public.

Matters To Be Considered The Chemical Safety and Hazard Investigation Board (CSB) will convene a public meeting on January 15, 2014, starting at 6:30 p.m. at the City Council Chambers, Civic Center Campus, 440 Civic Center Plaza, Richmond, CA 94804. At the public meeting, the Board will consider and vote on the draft regulatory report of the August 6, 2012, fire at the Chevron refinery that endangered 19 workers and sent more than 15,000 residents to the hospital for medical attention.

At the meeting, CSB staff will present to the Board the results of the second of three reports in the CSB's investigation of this incident. Subject to a vote by the board at the January 15 public meeting, the draft regulatory report would recommend that California “Develop and implement a step-by-step plan to establish a more rigorous safety management regulatory framework for petroleum refineries in the state of California based on the principles of the `safety case' framework in use in regulatory regimes such as those in the UK, Australia, and Norway.” The recommendation urges specific steps to accomplish this, including ensuring that workers are formally involved in the development of a safety case report for each covered facility. The report also urges California to work with industry in gathering refinery safety indicator data to be shared with the public.

As detailed in the CSB draft report, a safety case regime which would require companies to demonstrate to refinery industry regulators—through a written “safety case report”—how major hazards are to be controlled and risks reduced to “as low as reasonably practicable,” or ALARP. The CSB report notes that the safety case is more than a written document; rather, it represents a fundamental change by shifting the responsibility for continuous reductions in major accident risks from regulators to the company.

To ensure that a facility's safety goals and programs are accomplished, a safety case report generated by the company is rigorously reviewed, audited, and enforced by highly trained regulatory inspectors, whose technical training and experience are on par with the personnel employed by the companies they oversee, the draft report says.

The CSB's first interim report—which was voted on and approved by the board at a public meeting in Richmond, CA, on April 19, 2013—found that Chevron repeatedly failed over a ten-year period to apply inherently safer design principles and upgrade piping in its crude oil processing unit, which was extremely corroded and ultimately ruptured on August 6, 2012. The CSB's investigation identified missed opportunities on the part of Chevron to apply inherently safer piping design through the use of more corrosion-resistant metal alloys. The first interim report also found a failure by Chevron to identify and evaluate damage mechanism hazards, which if acted upon, would likely have identified the possibility of a catastrophic sulfidation corrosion-related piping failure. There are currently no federal or state regulatory requirements to apply these important preventative measures. The investigation team concluded that enhanced regulatory oversight with greater worker involvement and public participation are needed to improve petroleum refinery safety.

Following the staff presentation on proposed findings and safety recommendations, the Board will hear comments from the public.

Following the conclusion of the public comment period, the Board will consider whether to approve the final report and recommendations. All staff presentations are preliminary and are intended solely to allow the Board to consider in a public forum the issues and factors involved in this case. No factual analyses, conclusions, or findings presented by staff should be considered final.

Only after the Board has considered the staff presentations, listened to public comments, and adopted a final investigation report and recommendations will there be an approved final record of the CSB investigation of this incident.

Additional Information

The meeting is free and open to the public. If you require a translator or interpreter, please notify the individual listed below as the “Contact Person for Further Information,” at least five business days prior to the meeting.

The CSB is an independent federal agency charged with investigating accidents and hazards that result, or may result, in the catastrophic release of extremely hazardous substances. The agency's Board Members are appointed by the President and confirmed by the Senate. CSB investigations look into all aspects of chemical accidents and hazards, including physical causes such as equipment failure as well as inadequacies in regulations, industry standards, and safety management systems.

Public Comment

Members of the public are invited to make brief statements to the Board at the conclusion of the staff presentation. The time provided for public statements will depend upon the number of people who wish to speak. Speakers should assume that their presentations will be limited to five minutes or less, and may submit written statements for the record.

Contact Person for Further Information

Hillary J. Cohen, Communications Manager, hillary.cohen@csb.gov or (202) 446-8094. General information about the CSB can be found on the agency Web site at: www.csb.gov.

Dated: December 23, 2013.
Rafael Moure-Eraso,
Chairperson.

[FR Doc. 2013-31156 Filed 12-24-13; 11:15 am]

BILLING CODE 6350-01-P